DEPARTMENT OF TRANSPORTATION

Pipeline and Hazardous Materials Safety Administration

Office of Hazardous Materials Safety

AGENCY: Pipeline and Hazardous Materials Safety Administration (PHMSA), DOT.

ACTION: Notice of actions on Special Permit Applications.

SUMMARY: In accordance with the procedures governing the application for, and the processing of, special permits from the Department of Transportation's Hazardous Material Regulations (49 CFR Part 107, Subpart 13), notice is hereby given of the actions on special permits applications in (May to May 2014). The mode of transportation involved are identified by a number in the “Nature of Application” portion of the table below as follows: 1—Motor vehicle, 2—Rail freight, 3—Cargo vessel, 4—Cargo aircraft only, 5—Passenger-carrying aircraft, Application numbers prefixed by the letters EE represent applications for Emergency Special Permits. It should be noted that some of the sections cited were those in effect at the time certain special permits were issued.

Issued in Washington, DC, on: June 12, 2014.
Donald Burger,
Chief, Special Permits and Approvals Branch.

S.P No. | Applicant | Regulation(s) | Nature of special permit thereof
MODIFICATION SPECIAL PERMIT GRANTED
12184-M | Weldship Corporation Bethlehem, PA | 49 CFR 180.209(a), 180.205(c), (f), (g) and (i), UN cylinders 173.302a(b)(2), manufactured in (3), (4) and (5), and 180.213 | To modify the special permit to authorize accordance with ISO 11120, update the minimum wall thickness table, and update the rejection criteria table to include outside diameters of 18″ to 22″ for DOT 3AAX cylinders.
15448-M | U.S. Department of Defense Scott AFB, IL | 49 CFR 172.320, 173.51, 173.56, 173.57 and 173.58 | To modify the special permit to authorize Class 2, 3, 4, 5, 6, 7, 8, and 9 materials under interim hazard class.
15735-M | W.R. Grace & Co.-Conn. Columbia, MD | 49 CFR 173.242(d) | To modify the special permit to authorize Divison 4.2 materials.
13997-M | Maritime Helicopters, Inc. Homer, AK | 49 CFR 172.101(9b), 172.204(c)(3), 173.27(6)(2), 175.30(a)(1), 172.200, 172.300, 172.400, 175.75, 172.301(c), 172.302(c), and Part 178 | To modify the special permit to authorize an increase in portable tank capacity and the addition of Class 3 materials.
15335-M | Seastar Chemicals Inc. Sidney, BC | 49 CFR 173.158(f)(3) | To modify the special permit to authorize alternative threaded closure caps.
12362-M | U.S. Department of Defense Scott AFB, IL | 49 CFR 176.164(c) | To modify the special permit to authorize all Government owned Maritime Prepostioning Ships to use alternative stowage.
NEW SPECIAL PERMIT GRANTED
15863-N | Baker Hughes Oilfield Operations Inc. Houston, TX | 49 CFR 173.301(a), 173.301(f) and 173.302a | To authorize the transportation in commerce of compressed nitrogen in a non-DOT specification cylinder that is not equipped with a pressure relief device. (modes 1, 2, 3, 4).
15882-N | Ryan Air Inc. Anchorage, AK | 49 CFR 172.101 Table Column (9B), 173.27 and 173.243 | To authorize the transportation in commerce of certain Class 3 fuels in non-DOT specification bulk packaging by cargo aircraft. (mode 4).
16015-N | GPI Corporation Schofield, WI | 49 CFR 173.240, 173.241, 173.242 and 173.243 | To authorize the manufacture, marking, sale and use of non-DOT specification cargo tanks similar to DOT 407 and 412 cargo tanks. (mode 1).
16024-N | Manulwa Airways, Inc. Hilo, HI | 49 CFR 175.9(a) | To authorize the transportation in commerce of certain hazardous materials by external load. (mode 4).
16017-N | Transportation Security Administration Arlington, VA | 49 CFR Part 107, Subpart B, Appendix B; Part 172, Subpart C; 173.25, 175.85 | To authorize the shipment of radiation detection survey meters containing a Division 2.2 compressed gas in the passenger compartment of commercial aircraft. (mode 5).
16037-N | E.I. duPont de Nemours and Company Wilmington, DE | 49 CFR 173.242 | To authorize the transportation in commerce of a Class 8 corrosive) solid in UN50G large packagings. (modes 1, 2, 3).
16087-N | Textron Defense Systems (TDS) Wilmington, MA | 49 CFR 172.101 Column (9B) | To authorize the offering for transportation in commerce of certain Class 1 explosive materials which are forbidden for transportation by cargo only aircraft. (mode 4).
16106-N | New England Primate Research Center Southborough, MA | 49 CFR 173.199(a)(1) | To authorize the one-time one-way transportation in commerce of lice, non-human primates (NHPs) infected with Division 6.2 (infectious substance) materials. (mode 1).
16092-N | Swift River Air, LLC Anchorage, AK | 49 CFR 49 CFR 172.101 Column (8C), 173.241, 173.242, 175.310 | To authorize the transportation in commerce of certain flammable and combustible liquids in alternative packaging having a capacity of 119 gallons or more by air. (mode 4).
16107-N | DAHER-TLI | 49 CFR 173.420(a)(2)(i); 173.420(6) | To authorize the one time one way transportation in commerce of 14 heeled cylinders that are not ANSI N14.1 compliant. (mode 1).
16105-N | Coastal Helicopters Incorporated Inc. Belfast, ME | 49 CFR 49 CFR Table sect; 172.101, Column (9B), § 172.204(c)(3), § 173.27(b)(2) § 175.30(a)(1) § 172.200, 172.300, and 172.400 | To authorize the transportation in commerce of certain hazardous materials by 14 CFR Part 133 Rotorcraft External Load Operations transporting hazardous materials attached to or suspended from an aircraft, in remote areas of the U.S. only, without being subject to hazard communication requirements, quantity limitations and certain loading and stowage requirements. (mode 4).
16150-N | Egli Air Haul Inc. King Salmon, AK | 49 CFR 172.101 Column (9B); 175.30(a)(1) | Authorizes the transport of propane in DOT Specification 4B240, 48A240, 4BW240 cylinders via helicopter utilizing sling loads. (mode 4).
EMERGENCY SPECIAL PERMIT GRANTED
16055-N | Gateway Pyrotechnic Productions, LLC, dba Gateway Fireworks Displays St. Louis, MO | 49 CFR 172.300, 172.400, 172.301(c), 173.56 | To authorize the one-time, one-way transportation of unappproved fireworks from Dallas, TX to storage in Illiopolis, IL.
16159-N | The Boeing Company Renton, WA | 49 CFR 172.300, 172.400 and 172.500 | To authorize the transportation in commerce of a Division 1.4S material without marking, labeling or placarding. (modes 1, 2, 3, 4).
16153-N | Trailers y Tanques de Aluminio S.A. de CV. Mexico | 49 CFR 178.345-7(d) | To authorize the transportation in commerce of certain cargo tanks with ring stiffers manufactured between October 2011 through May 2013 that are not in compliance with 178.347-7(d). (modes 1, 2, 3).
16151-N | Antonov Company, t/a Antonov Airlines Kiev, NH | 49 CFR 49 CFR Section 172.101 Column (9B) | To authorize the one-time transportation in commerce of certain explosives that are forbidden for transportation by cargo only aircraft. (mode 3).
16164-N | AREVA, Inc. Richland, WA | 49 CFR 173.420(a)(2)(i); 173.420(b) | To authorize the one time one way transportation in commerce of four Model 30B cylinders that contain a small residual heel of uranium hexafluoride. (mode 1).
DENIED
15788-M | Request by Amtrol-Alfa, Metalomecanica SA Portugal, May 28, 2014. To modify the special permit to address requests made in the original application submitted on December 26, 2012.
14808-M | Request by Amtro Alfa Metalomecanica SA Portugal, May 23, 2014. To modify the special permit to authorize an increase in the maximum water capacity to 10 gallons.
15036-M | Request by UTLX Manufacturing, Incorporated Alexandria, LA, May 21, 2014. To modify the special permit to authorize an increase of the inspection interval to five years.
15997-N | Request by Chemring Energetic Devices, Inc. Torrance, CA, May 7, 2014. To authorize the transportation in commerce Sealed Scrap Parts (small parts containing milligram explosive loads) as as UN0352, Articles, explosive, n.o.s. 1.4D without having them re-examined when transported for disposal.
16095-N | Request by Clay & Bailey Manufacturing Company Kansas City, MO, May 28, 2014. To authorize the manufacture, mark, sale and use of manways constructed from Ultra High Molecular Weight Pole Ethylene for use on cargo tank motor vehicles in transporting certain hazardous materials.
16136-N | Request by Elk Environmental Services Reading, PA, May 21, 2014. To authorize the transportation in commerce of certain labpack quantities of hazardous materials with shrink-wrap as an overpack without required markings and labels.

[FR Doc. 2014-14129 Filed 6-19-14; 8:45 am]

BILLING CODE 4909-60-M